DEPARTMENT OF ENERGY

Federal Energy Regulatory Commission

[Docket Nos. RM01-10-000; EY06-7-000; TS06-2-000]

Standards of Conduct for Transmission Providers; Venice Gathering System, L.L.C.; Notice Granting Extension of the Waiver of Posting and Recordkeeping Requirements

February 15, 2006.

On January 31, 2006, Venice Gathering System, L.L.C. (Venice Gathering) filed a third request seeking an extension of the emergency waiver of section 358.4(a)(2) of the Commission's regulations, 18 CFR 358.4(a)(2) (2005). Venice Gathering requests an extension of that waiver as it relates to section 358.4(a)(2) of the Commission's regulations until the end of the gas day on March 31, 2006 or the date on which the Venice Gathering system has returned to full pre-hurricane operation. Venice Gathering also is seeking an extension of the waiver of section 358.4(b)(3)(iv) of the Commission's regulations, 18 CFR 358.4(b)(3)(iv) (2005), with respect to the deadline for updating the information contained in its posted employee organizational charts and its posted job descriptions until the end of the gas day on February 15, 2006.

Venice owns and operates a FERC-jurisdictional natural gas gathering and transmission system consisting of (1) A twenty-six inch mainline, extending from the South Timbalier Block 151 compressor platform in the Gulf of Mexico to the Venice Plant, (2) a twenty-four inch mainline extending from the South Timbaliler Block 151 compressor platform to the West Delta Block 79A platform, and (3) a twenty-two inch mainline extending from the West Delta Block 79A platform to the Venice Plant located near Venice, Louisiana. In its initial request for exemption, Venice stated that Hurricane Katrina caused extensive damage to processing plants and offshore pipelines located along the Louisiana Gulf Coast, including the Venice Plant and the Venice Gathering system.

Venice states that these extensions are needed to permit all employees within its parent company who have expertise and availability to assist in the restoration efforts to engage in detailed communications about the status of the restoration efforts and to coordinate joint operations and repair work, without regard to their designations under Order No. 2004 and without the requirement to log each individual deviation from the Standards of Conduct.

Venice Gathering states that, in order to enable it to take all appropriate steps within its control to restore its system to full, pre-hurricane operations, it is necessary that the waiver of the recording and posting requirements of section 358.4(a)(2) of the Commission's regulations be extended. Venice Gathering states, further, that due to the significant Targa resources devoted to the restoration project, it is left with limited resources to carry out revisions to its Web site postings related to its recent change in control after the Targa acquisition.

The Commission granted a temporary emergency waiver of sections 358.4(a)(2) and 358.4(b)(3)(iv) of the Commission's regulations in notices issued on November 28, 2005 and on January 25, 2006 in order to allow Venice Gathering to proceed with the restoration work on its pipeline facilities and on the Venice Gathering Processing Plant necessitated by Hurricane Katrina. In the January 25, 2006 notice, the Commission extended the waiver until the earlier of the end of the gas day on January 31, 2006, or the date on which the Venice Gathering system returned to full pre-hurricane operation, without prejudice to Venice Gathering requesting a further extension, if necessary.

The Commission grants Venice a third extension of the waiver for sections 358.4(a)(2) and 358.4(b)(3)(iv) until the end of the gas day on February 28, 2006. This is the final extension that will be granted to Venice.

The Commission directs Venice Gathering to ensure that the employees affected by this waiver observe the no-conduit prohibition in the Standards of Conduct, 18 CFR 358.5(b)(7) (2005).

Magalie R. Salas,
Secretary.

[FR Doc. E6-2626 Filed 2-23-06; 8:45 am]

BILLING CODE 6717-01-P